DEPARTMENT OF COMMERCE

National Oceanic and Atmospheric Administration

[I.D. 121506A]

Endangered and Threatened Species; Initiation of a Status Review under the Endangered Species Act for the Atlantic White Marlin

AGENCY: National Marine Fisheries Service (NMFS), National Oceanic and Atmospheric Administration (NOAA), Commerce.

ACTION: Notice of initiation of a status review under the Endangered Species Act (ESA); request for information.

SUMMARY: We, NMFS, announce the initiation of a status review for the Atlantic white marlin (Tetrapturus albidus), and we solicit information on the status of and threats to the species.

DATES: Information regarding the status of and threats to the Atlantic white marlin must be received by February 20, 2007.

ADDRESSES: You may submit information on the Atlantic white marlin by any one of the following methods:

• Fax: 727-824-5309, Attention: Dr. Stephania Bolden

• Mail: Information on paper, disk or CD-ROM should be addressed to the Assistant Regional Administrator for Protected Resources, NMFS Southeast Regional Office, 263 13th Avenue South, St. Petersburg, FL 33701

• E-mail: whitemarlin.info@noaa.gov. Include in the subject line the following identifier: white marlin review

FOR FURTHER INFORMATION CONTACT: Dr. Stephania Bolden, NMFS, Southeast Regional Office (727) 824-5312, or Ms. Marta Nammack, NMFS, Office of Protected Resources (301) 713-1401.

SUPPLEMENTARY INFORMATION:

Background

We conducted a status review of the Atlantic white marlin under the ESA and published a 12-month determination that listing was not warranted (67 FR 57204; September 9, 2002). As a result of subsequent litigation and a settlement agreement with the Center for Biological Diversity, we agreed to initiate a status review following the 2006 stock assessment by the International Commission for the Conservation of Atlantic Tunas (ICCAT); the 2006 ICCAT white marlin stock assessment can be found at www.iccat.int. Atlantic white marlin are billfish (Family: Istiophoridae) found throughout tropical and temperate waters of the Atlantic Ocean and adjacent seas. White marlin, along with other billfish and tunas, are managed internationally by the member nations of the ICCAT. At this time we announce commencement of a new status review for the Atlantic white marlin, and request information regarding the status of and threats to the species, pursuant to the terms of the aforementioned settlement agreement.

Request for Information

To support this status review, we are soliciting information relevant to the status of and threats to the species, including, but not limited to, information on the following topics: (1) historical and current abundance and distribution of the species and congeners throughout the species range; (2) potential factors for the species' decline throughout the species range; (3) rates of capture and release of the species from both recreational and commercial fisheries; (4) post-release mortality; (5) life history information (size/age at maturity, growth rates, fecundity, reproductive rate/success, etc.); (6) morphological and molecular information to assist in determining taxonomy of this species and congeners; (7) threats to the species, particularly: (a) present or threatened destruction, modification, or curtailment of habitat or range; (b) over-utilization for commercial, recreational, scientific, or educational purposes; (c) disease or predation, (d) inadequacy of existing regulatory mechanisms, or (e) other natural or manmade factors affecting its continued existence; and (8) any ongoing conservation efforts for the species. See DATES and ADDRESSES for guidance on and deadlines for submitting information.

Authority: 16 U.S.C. 1531 et seq.

Dated: December 18, 2006.
Donna Wieting,
Deputy Director, Office of Protected Resources, National Marine Fisheries Service.

[FR Doc. 06-9812 Filed 12-18-06; 2:45 pm]

BILLING CODE 3510-22-S